NUCLEAR REGULATORY COMMISSION

[Docket No. SSD 99-27; ASLBP No. 00-778-06-ML]

Graystar, Inc.; Notice of Reconstitution

Pursuant to the authority contained in 10 CFR 2.721 and 2.1207, the Presiding Officer in the captioned 10 CFR part 2, Subpart L proceeding is hereby replaced by appointing Administrative Judge Ann M. Young as Presiding Officer in place of Administrative Judge G. Paul Bollwerk, III.

All correspondence, documents, and other material shall be filed with the Presiding Officer in accordance with 10 CFR 2.1203. The address of the new Presiding Officer is: Administrative Judge Ann M. Young, Atomic Safety and Licensing Board Panel, U.S. Nuclear Regulatory Commission, Washington, D.C. 20555-0001.

Issued at Rockville, Maryland, this 31st day of July 2000.
G. Paul Bollwerk III,
Chief Administrative Judge, Atomic Safety and Licensing Board Panel.

[FR Doc. 00-19901 Filed 8-4-00; 8:45 am]

BILLING CODE 7590-01-P